DEPARTMENT OF THE INTERIOR

Bureau of Land Management

[AZ 020-07-1430-EU; AZA-33668]

Notice of Realty Action: Competitive Sale of Public Land; Maricopa County, AZ

AGENCY: Bureau of Land Management, Interior.

ACTION: Notice of Realty Action.

SUMMARY: A single 282.50 acre parcel of Federal public land located in south Goodyear, Maricopa County, Arizona, has been examined and found suitable for sale utilizing competitive sale procedures. The authority for the sale is Section 203 of the Federal Land Policy and Management Act of 1976 (FLPMA) (43 U.S.C. 1701 and 1713).

DATES: The lands will be segregated on the date of publication of this notice in the Federal Register. Comments regarding the proposed sale must be received by the Bureau of Land Management (BLM) on or before May 14, 2007. BLM will accept sealed bids for the offered land from qualified bidders up to June 5, 2007 and accept oral bids at a public auction scheduled June 7, 2007.

ADDRESSES: Comments regarding the proposed sale should be addressed to the Lower Sonoran Field Manager, BLM, Phoenix District Office, 21605 North 7th Avenue, Phoenix, Arizona 85027. The address for oral bidding registration and where the public auction will be held is the same.

FOR FURTHER INFORMATION CONTACT: Information regarding the competitive sale instructions, procedures, documents, maps and materials to submit a bid can be obtained at the public reception area at the BLM, Phoenix District from 7:30 a.m. to 4:15 p.m., Monday through Friday (except Federal holidays), or by contacting Camille Champion, Project Manager, BLM, Lower Sonoran Field Office, 21605 North 7th Avenue, Phoenix, Arizona 85027, 623-580-5526.

SUPPLEMENTARY INFORMATION: The following described parcel of public land is proposed for sale:

Gila and Salt River Meridian, Arizona

T. 1 S., R. 2 W.

Sec. 36, NE¼NE1/4, NE¼NE¼NW¼NE¼.S½NE1/4, SE¼.

The area described contains 282.50 acres, more or less, in Maricopa County.

The land is located in the southern portion of the incorporated City of Goodyear, Arizona. The parcel will be offered through competitive sale pursuant to 43 CFR 2711.3-1. The mineral estate is owned by the Arizona State Land Department and will not be included in the sale. Authority for the sale is Section 203 of the Federal Land Policy and Management Act of October 21, 1976 (43 U.S.C. 1701 and 1713). This parcel of land is being offered for sale, using both sealed and oral bid procedures, for not less than the estimated market value. This estimated market value will be made available 30 days prior to sealed bid closing date at the BLM, Phoenix District Office, 21605 North 7th Avenue, Phoenix, Arizona 85027. The land is not required for Federal purposes and was identified for disposal in the BLM Lower Gila South Resource Management Plan approved in June, 1988, and therefore meets the disposal qualifications. The disposal (sale) of the parcel would serve the public by making lands available for community expansion and private economic development. As such, these lands meet the criteria for sale under 43 CFR 2710.0-3(a)(2) and (3).

Both sealed bids and oral bids will be accepted. All sealed bids must be received at the BLM, Phoenix District Office (address stated above), not later than 4:15 p.m., MST, on June 5, 2007. The outside of bid envelopes must be clearly marked on the front lower left-hand corner with “SEALED BID” “BLM Land Sale AZ, AZA-33668” and the bid opening date of June 7, 2007. Sealed bid opening is to begin at 10 a.m., MST, June 6, 2007. The subject land proposed for sale will be put up for purchase and sale at public auction, beginning at 1:30 p.m., MST, June 7, 2007. Registration for oral bidding will begin at 11 a.m., MST, June 7, 2007. Pursuant to 43 CFR 2711.3-1(c), bids must be for not less than the appraised fair market value. Each sealed bid shall be accompanied by a certified check, money order, bank draft,or cashier's check made payable to the Bureau of Land Management, for not less than 10 (ten) percent of the amount bid. The bid envelope must also contain a statement showing the total amount bid and the name, mailing address, and phone number of the entity making the bid. Oral bidding on the date of the sale will begin at 1:30 p.m. at the BLM Phoenix District Office at the highest qualifying oral bidder shall submit payment by cash, personal check, bank draft, money order, or any combination for not less than 20 percent of the amount of the bid immediately following the close of the sale. The successful bidder, whether such bid is a sealed or oral bid, shall submit the remainder of the full bid price prior to the expiration of 180 days from the date of the sale. Failure to submit the full bid price prior to the 180th day shall result in forfeiture of the deposit. The BLM, in its sole discretion, reserves the right to: (1) Reject any bid; (2) ask for supplemental bids in the case of identical bids; (3) withdraw the property from sale; or (4) postpone the sale for cause. If not sold, the parcel described above in this notice may be identified for sale on a continuing basis, by sealed bid, until sold. Federal law requires bidders to be U.S. citizens 18 years of age or older, a corporation subject to the laws of any state or of the United States; a state, state instrumentality, or political subdivision authorized to hold property, or an entity including, but not limited to, associations or partnerships legally capable of holding property or interests therein under the laws of the State of Arizona. Certification of bidder qualification must accompany the bid deposit.

Segregation: Publication of the Notice in the Federal Register segregates the subject lands from all appropriations under the public land laws, including the general mining laws, except sale under the Federal Land Policy and Management Act of 1976. The segregation will terminate upon issuance of the quit claim deed, or upon publication in the Federal Register of a termination of the segregation or 2 years from publication of this notice in the Federal Register, whichever occurs first.

Terms and Conditions of Sale: Upon successful completion of the sale, the quit claim deed issued would contain the following numbered reservations, covenants, terms and conditions:

1. A right-of-way thereon for ditches and canals constructed by authority of the United States, Act of August 30, 1890 (43 U.S.C. 945).

2. Right-of-ways authorized under the Act of October 21, 1976, 90 Stat. 2776 (43 U.S.C. 1761) for power lines granted to Tucson Electric Power Company, its successor or assignees, by right-of ways AZA-7274 and AZA-7872 and a road granted to Narhill LLC, right-of-way AZA-31957.

3. The parcel is subject to valid existing rights.

4. The purchaser/grantee, by accepting the deed, agrees to indemnify, defend, and hold the United States harmless from any costs, damages, claims, causes of action, penalties, fines, liabilities, and judgments of any kind arising from the past, present, or future acts or omissions of the grantor, its employees, agents, contractors, or lessees, or a third party arising out of, or in connection with, the grantor's use and/or occupancy of the deeded real property resulting in: (1) Violations of Federal, state, and local laws and regulations that are now, or in the future, become applicable to the real property; (2) judgments, claims, or demands of any kind assessed against the United States; (3) costs, expenses, or damages of any kind incurred by the United States; (4) releases or threatened releases of solid or hazardous waste(s) and/or hazardous substance(s), as defined by Federal or state environmental laws, off, on, into, or under land, property, and other interests of the United States; (5) other activities by which solids or hazardous substances or wastes, as defined by Federal and state environmental laws are generated, released, stored, used, or otherwise disposed of on the deeded real property, and any cleanup response, remedial action, or other actions related in any manner to said solid or hazardous substances or wastes; or (6) natural resource damages as defined by Federal and state law. This covenant shall be construed as running with the deeded real property and may be enforced by the United States in a court of competent jurisdiction.

5. Pursuant to the requirements established by section 120(h) of the Comprehensive Environmental Response, Compensation and Liability Act (CERCLA), (42 U.S.C. 9620(h)), as amended by the Superfund Amendments and Reauthorization Act of 1988, (100 Stat.1670), notice is hereby given that the above-described lands have been examined and no evidence was found to indicate that any hazardous substances has been stored for one year or more, nor had any hazardous substances been disposed of or released on the subject property.

No warranty of any kind, express or implied, is given by the United States as to the title, physical condition or potential uses of the parcel of land proposed for sale, and the conveyance of any such parcel will not be on a contingency basis. It is the buyer's responsibility to be aware of all applicable Federal, State, or local government laws, regulations, or policies that may affect the subject lands or its future uses. It is also the buyer's responsibility to be aware of existing or prospective uses of nearby properties. Any land lacking access from a public road or highway will be conveyed as such, and future access acquisition will be the responsibility of the buyer.

Public Comments: Detailed information concerning the proposed land sale, including reservations, sale procedures, appraisals, planning and environmental documents, and mineral reports, is available for review at the BLM Phoenix District Office, 21605 North 7th Avenue, Phoenix, Arizona 85027. Normal business hours are 7:30 a.m. to 4:15 p.m., Monday through Friday (except Federal holidays). The general public and interested parties may submit written comments regarding the proposed sale to the BLM Phoenix District Manger, not later than 45 days after publication of this notice in the Federal Register. Any comments received are to be in letter format and addressed and mailed to Teri Raml, Phoenix District Manager, BLM Phoenix District Office, 21605 North 7th Avenue, Phoenix, Arizona 85027. Facsimiles, telephone calls, and e-mails are unacceptable means of notification. Comments including names and street addresses of respondents will be available for public review at the BLM Phoenix District Office during regular business hours, except holidays. Before including your address, phone number, e-mail address, or other personal identifying information in your comment, be advised that your entire comment-including your personal identifying information—may be made publicly available at any time. While you can ask us in your comment to withhold from public review your personal identifying information, we cannot guarantee that we will be able to do so.

Any adverse comments will be reviewed by the State Director, who may sustain, vacate, or modify this realty action and issue a final determination. In the absence of timely filed objections, this realty action will become the final determination of the Department of the Interior.

Authority: 43 CFR 2711.1-2(a) and (c).

Margo E. Lewis,
Assistant District Manager, Phoenix District Office.

[FR Doc. E7-5538 Filed 3-27-07; 8:45 am]

BILLING CODE 4310-32-P